DEPARTMENT OF JUSTICE

Notice of Lodging of Consent Decree Pursuant to Sections 107 and 113 of CERCLA

Notice is hereby given that on July 17, 2001, the United States lodged a proposed Consent Decree with the United States District Court for the Southern District of Texas, in United States v. Union Pacific Railroad Company, Civ. A. No. H-00-0226, pursuant to sections 107 and 113 of CERCLA, 42 U.S.C. 9607 and 9613. The proposed Consent Decree resolves civil claims of the United States against Union Pacific Railroad Company (“Union Pacific”), the former owner and operator at the time of disposal of hazardous substance at the Brownsville Federal Courthouse Site (the “Site”) located in the City of Brownsville, Cameron County, Texas. Under the proposed Consent Decree, Union Pacific agrees to pay $300,000 of the United States' past response costs related to the Site.

The Department of Justice will receive comments relating to the proposed Consent Decree for 30 days following publication of this Notice. Comments should be addressed to the Assistant Attorney General, Environment and Natural Resources Division, United States Department of Justice, PO Box 7611, Ben Franklin Station, Washington, DC 20044-7611, and should refer to United States v. Union Pacific Railroad Company, DOJ No. 90-11-3-07036. The proposed Consent Decree may be examined at the Office of the United States Attorney for the Southern District of Texas, Houston, Texas, and the General Services Administration, Fritz G. Lanham Building, 819 Taylor Street, Fort Worth, Texas, 76102-6195. A copy of the proposed Consent Decree may be obtained by mail from the Department of Justice Consent Decree Library, PO Box 761, Washington, DC 20044. In requesting a copy, please enclose a check for reproduction costs (at 25 cents per page) in the amount of $4.50 for the Decree, payable to the Consent Decree Library.

Walker B. Smith,
Deputy Chief, Environmental Enforcement Section, Environment and Natural Resources Division.

[FR Doc. 01-20643 Filed 8-15-01; 8:45 am]

BILLING CODE 4410-15-M